DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of July 1, 2020 through July 31, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated; AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely; AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased; AND

(iii) the increase in imports described in clause (ii) contributed importantly to such workers' separation or threat of separation and to the decline in the sales or production of such firm; OR

(B) Shift in Production or Services to a Foreign Country Path OR Acquisition of Articles or Services from a Foreign Country Path:

(i)(I) there has been a shift by such workers' firm to a foreign country in the production of articles or the supply of services like or directly competitive with articles which are produced or services which are supplied by such firm; OR

(II) such workers' firm has acquired from a foreign country articles or services that are like or directly competitive with articles which are produced or services which are supplied by such firm; AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated; AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4)); AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) the workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1) of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A)); AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register; AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
95,265 | United States Steel Corporation, East Chicago Tin Division | East Chicago, IN | October 8, 2018.
95,309 | Kolberg-Pioneer Inc., Astec Industries Inc | Yankton, SD | October 21, 2018.
95,390 | AK Steel Corporation, Butler Works, AK Steel Holding Corporation, Unlimited Staffing | Lyndora, PA | November 19, 2018.
95,394 | Tamco, CMC Steel Fabricators Inc | Rancho Cucamonga, CA | November 19, 2018.
95,419 | Twin City Die Castings Company, Express Employment Professionals | Watertown, SD | November 22, 2018.
95,631 | JW Aluminum Company | St. Louis, MO | January 30, 2019.
95,772 | Component Bar Products, LLC | O'Fallon, MO | March 4, 2019.
95,826 | Wexco Corporation, W-E Investments Corporation | Lynchburg, VA | March 18, 2019.
95,848 | FTS International Services, LLC | Hobbs, NM | March 24, 2019.
95,925 | Alcoa lntalco Works, Homeward Designs, WESCO Integrated Supply, etc | Ferndale, WA | May 11, 2019.
95,945 | Freeport-McMoRan Chino Mines Company, Freeport-McMoRan Chino, Chino Acquisitions, James Hamilton, etc | Vanadium, NM | May 28, 2019.

The following certifications have been issued. The requirements of Section 222(a)(2)(B) (Shift in Production or Services to a Foreign Country Path or Acquisition of Articles or Services from a Foreign Country Path) of the Trade Act have been met.

TA-W No. | Subject firm | Location | Impact date
95,414 | Hillphoenix Specialty Products, Data Entry/Programming and Bill of Materials, Dover, QPS Employment, TEEMA | Centerville, IA | November 22, 2018.
95,414A | Hillphoenix Specialty Products, Data Entry/Programming Dept., Dover Corp., QPS Employment Group, TEEMA | Keosauqua, IA | November 22, 2018.
95,430 | Icebreaker, Product Design & Development Team, Division of VF Outdoor, LLC | Portland, OR | November 26, 2018.
95,455 | RS Distribution Inc., Rochdale Spears US Holdings Inc., LW Capital Investments, Express Services | Hickory, NC | December 5, 2018.
95,491 | Marc Fisher Footwear, Moda LLC | Greenwich, CT | December 17, 2018.
95,513 | ITT Industries Holdings, Inc., IT, ITT, Kelly Services, ISSI Technology Professionals, Execu-Sys, etc | Seneca Falls, NY | December 23, 2018.
95,637 | Carl Zeiss Vision, Inc., Carl Zeiss International GmbH | Clackamas, OR | February 3, 2019.
95,740 | Aalfs Manufacturing, Inc., Distribution Center, Ropa Siete Leguas | Mena, AR | February 26, 2019.
95,749 | Aptar, AptarGroup, Alternative Employment, Inc | Torrington, CT | February 28, 2019.
95,749A | Aptar, AptarGroup, Nesco Resources, Ajulia Executive Search, Adecco, Aerotek, etc | Stratford, CT | February 28, 2019.
95,822 | Ricoh USA, Inc., Operational Accounting Division, Ricoh Americas Holdings, Inc | Houston, TX | March 17, 2019.
95,923 | Eaton Corporation, Vehicle Group, Barpellam, Hunter International Recruiting, Manpower, etc | Kings Mountain, NC | May 14, 2019.
95,933 | Umicore Autocat USA, Inc., Aerotek, Trinity Employment Specialists | Catoosa, OK | May 21, 2019.
95,937 | Panasonic Solar North America (PSNA), Panasonic North America, Imagine Staffing | Buffalo, NY | March 13, 2019.
95,939 | DXC Technology, Virtual Private Cloud (VPC) Offering, Cloud & Platform Services (CPS), etc | Tysons, VA | May 27, 2019.
95,969 | Piramal Glass USA, Inc., Glass Manufacturing Division, Piramal Glass Private Limited, Manpower | Park Hills, MO | June 5, 2019.
95,970 | Pittsburgh Glass Works, LLC, Vitro SAB de C.V., Action Staffing, Inc., Abbco Service Corporation | Evansville, IN | June 5, 2019.
95,980 | Tektronix, Inc., Vanderhouwen & Associates, Creative Financial Staffing, etc | Beaverton, OR | June 10, 2019.
96,006 | Bed Bath & Beyond Inc., Contact Center | Layton, UT | June 19, 2019.
96,012 | TE Connectivity, Automotive Division, Kelly Services | Greensboro, NC | June 23, 2019.
96,012A | TE Connectivity, Automotive Division, Kelly Services | Winston Salem, NC | June 23, 2019.
96,028 | AIG Employee Services, Inc., Corporate Planning—New York, American International Group, Inc | New York, NY | July 1, 2019.

The following certifications have been issued. The requirements of Section 222(b) (supplier to a firm whose workers are certified eligible to apply for TAA) of the Trade Act have been met.

TA-W No. | Subject firm | Location | Impact date
95,433 | Maverick Tube Corporation, Tenaris Hickman, Tenaris S.A | Blytheville, AR | November 27, 2018.
95,936 | Center Industries Corporation, Center Industries Company, Inc | Wichita, KS | May 12, 2019.
95,947 | Standard Locknut LLC, Industrial Group Intermediary Holdings LLC, Aerotek, etc | Westfield, IN | May 28, 2019.
96,022 | Exacta Aerospace, PCC Aerostructures Division, Aerotek, Summit Employment, Expleo | Wichita, KS | June 29, 2019.

The following certifications have been issued. The requirements of Section 222(e) (firms identified by the International Trade Commission) of the Trade Act have been met.

TA-W No. | Subject firm | Location | Impact date
95,583 | Metal Box International, LLC, Industrial Staffing | Franklin Park, IL | January 23, 2019.
95,938 | The Corsi Group, Inc., Corsi Cabinet Company, Inc., Greenfield Cabinetry, LLC | Indianapolis, IN | April 17, 2019.
95,944 | Crystal Cabinet Works, Inc | Princeton, MN | April 17, 2019.
95,951 | MasterBrand Cabinets, Inc., Fortune Brands Home & Security, Inc., Cognizant, TEKsystems | Jasper, IN | April 17, 2019.
95,951A | MasterBrand Cabinets, Inc., Fortune Brands Home & Security, Inc | Ferdinand, IN | April 17, 2019.
95,952 | MasterBrand Cabinets, Inc., Fortune Brands Home & Security, Inc., Express Employment Professionals | Grants Pass, OR | April 17, 2019.
95,957 | Woodcraft Industries, Inc., North American Cabinet, Quanex Building Products, Doherty, Pro Staff | St. Cloud, MN | April 17, 2019.
95,957A | Woodcraft Industries, Inc., North American Cabinet Components Division, Quanex Building Products Corp | Foreston, MN | April 17, 2019.
95,968 | Norcraft Companies LP, MasterBrand Cabinets, Inc., Fortune Brands Home & Security, Inc., Manpower | Lynchburg, VA | September 25, 2020.
95,979 | Canyon Creek Cabinet Company, Sumitomo Forestry America, Inc., Terra Services, Inc | Monroe, WA | April 17, 2019.
95,987 | MasterBrand Cabinets, Inc., Fortune Brands Home & Security, Inc., Aerotek, Kelly Services, StaffQuick | Arthur, IL | April 17, 2019.
96,035 | Starmark Cabinetry, Norcraft Companies LP, MasterBrand Cabinets, Fortune Brands Home & Security | Sioux Falls, SD | April 17, 2019.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
95,124 | Liberty Mutual Group Inc., Global Risk Solutions Claims Licensing Group, LMHC Massachusetts Holdings | Portland, OR
95,545 | United States Steel Corporation, Edgar Thomson Plant | Braddock, PA

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
95,741 | Detroit Diesel Remanufacturing LLC, Detroit Diesel Corporation, Daimler Trucks North America LLC, Arnold Group | Emporia, KS
95,759 | Sterlingwear of Boston, Inc | Boston, MA
95,890 | Plycem USA LLC dba Allura, Elementia, S.A.B. de C.V., Kelly Services, Manpower | Terre Haute, IN
95,893 | Utility Trailer Manufacturing Company | Glade Spring, VA
95,893A | Utility Trailer Manufacturing Company, Express Employment Professionals, Hometown Employment | Paragould, AR

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,920 | DXC MS LLC, DXC Technology Company, Molina Medicaid Solutions | Glen Allen, VA
94,920A | DXC MS LLC, DXC Technology Company, Molina Medicaid Solutions | Herndon, VA
95,130 | Intellectual Property Services Inc., E-commerce Fraud Prevention Team, Volts Workforce Solutions | Erie, PA
95,285 | DEE Inc., Doherty Staffing Solutions | Crookston, MN
95,468 | Grace Bio-Labs, Inc | Bend, OR
95,481 | Petrobras America Inc., Petrobras International Braspetro B.V., StaffMark | Houston, TX
95,498 | Golden Island Jerky Company, Tyson Foods Inc., ProWorks Staffing, Resource Employment Solutions, etc | Rancho Cucamonga, CA
95,546 | XPO Logistics, Manpower | Hazelwood, MO
95,562 | Pier 1 Imports (U.S.) Inc., Pier 1 Imports Inc | Jefferson City, MO
95,578 | EnTech Plastics Inc., Adecco Employment Services, Office Service, etc | Corry, PA
95,599 | Pier 1 Imports (U.S.) Inc., Pier 1 Imports Inc | St. Louis, MO
95,676 | The Western Kentucky Coal Company, LLC, Genesis Mine, Murray Energy Corporation | Centertown, KY
95,796 | Tyson Shared Services Inc., Information Technology/Information Systems Division, Tyson Foods Inc | Springdale, AR
95,803 | Crown Cork & Seal USA, Inc., North America Food Division, Manpower Staffing | Omaha, NE
95,852 | Coastal Drilling Land Company LLC | Corpus Christi, TX
95,862 | Pier 1 Imports (U.S.) Inc., Pier 1 Imports Inc | Branson, MO
95,880 | iQor Global Services LLC, iQor US Inc., SMX Staffing | Memphis, TN

Determinations Terminating Investigations of Petitions for Trade Adjustment Assistance

After notice of the petitions was published in the Federal Register and on the Department's website, as required by Section 221 of the Act (19 U.S.C. 2271), the Department initiated investigations of these petitions.

The following determinations terminating investigations were issued in cases where the petition regarding the investigation has been deemed invalid.

TA-W No. | Subject firm | Location | Impact date
95,735 | IBM Global Business Services | Oakwood, OH
95,959 | Mid Continent Cabinetry, Norcraft Companies LP, MasterBrand Cabinets, Fortune Brands Home &amp; Security | Cottonwood, MN
95,971 | WhiteFront Cafe, Grandma's Place LLC | Barberton, OH

The following determinations terminating investigations were issued because the worker group on whose behalf the petition was filed is covered under an existing certification.

TA-W No. | Subject firm | Location | Impact date
95,264 | Ocwen Financial Corporation, Cendant, PHH Mortgage Corporation | Addison, TX
95,774 | Powerex, Inc | Youngwood, PA
95,881 | MKEC, Spirit Aerosystems Inc | Wichita, KS
95,889 | Workforce Logiq, Spirit Aerosystems Inc | Wichita, KS
95,959A | Masterbrand Cabinets, Inc., Fortune Brands Home & Security, Inc | Jasper, IN
95,975 | Securitas USA, Kimberly-Clark Corporation, Personal Care Division | Conway, AR
95,987A | MasterBrand Cabinets, Inc., Fortune Brands Home & Security, Inc | Jasper, IN
96,020 | Abbco Service Corporation, Pittsburgh Glass Works, LLC | Evansville, IN
96,050 | AHI Small Business Facility Services, Kimberly-Clark Corporation, Personal Care Division | Conway, AR

The following determinations terminating investigations were issued because the petitioning group of workers is covered by an earlier petition that is the subject of an ongoing investigation for which a determination has not yet been issued.

TA-W No. | Subject firm | Location | Impact date
95,941 | Halliburton Energy Services | Duncan, OK

I hereby certify that the aforementioned determinations were issued during the period of July 1, 2020 through July 31, 2020. These determinations are available on the Department's website https://www.doleta.gov/tradeact/petitioners/taa_search_form.cfm under the searchable listing determinations or by calling the Office of Trade Adjustment Assistance toll free at 888-365-6822.

Signed at Washington DC, this 10th day of August 2020.
Hope D. Kinglock,
Certifying Officer, Office of Trade Adjustment Assistance.

[FR Doc. 2020-18662 Filed 8-24-20; 8:45 am]

BILLING CODE 4510-FN-P